FEDERAL RETIREMENT THRIFT INVESTMENT BOARD

Notice of Board Meeting

DATES: October 26, 2021 at 10:00 a.m.

ADDRESSES: Telephonic. Dial-in (listen only) information: Number: 1-415-527-5035, Code: 2760 209 1763; or via web: https://tspmeet.webex.com/tspmeet/onstage/g.php?MTID=e43d422582b17038b9040319a5e5af615.

FOR FURTHER INFORMATION CONTACT: Kimberly Weaver, Director, Office of External Affairs, (202) 942-1640.

SUPPLEMENTARY INFORMATION:

Board Meeting Agenda

Open Session

1. Approval of the September 28, 2021 Board Meeting Minutes

2. Monthly Reports

(a) Participant Activity Report

(b) Legislative Report

3. Quarterly Reports

(c) Investment Policy

(d) Audit Status

(e) Budget Review

4. Mid-Year Financial Review

5. Enterprise Risk Management Update

6. Internal Audit Update

7. Converge Update

Closed Session

Information covered under 5 U.S.C. 552b (c)(6) and (c)(9)(B).

(Authority: 5 U.S.C. 552b (e)(1))

Dated: October 13, 2021.
Dharmesh Vashee,
General Counsel, Federal Retirement Thrift Investment Board.

[FR Doc. 2021-22638 Filed 10-15-21; 8:45 am]

BILLING CODE P